NATIONAL SCIENCE FOUNDATION

Sunshine Act Meetings; National Science Board

The National Science Board's Committee on Strategy and Budget, Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

DATE & TIME: Thursday, April 30, 2015 at 5:00 to 6:00 p.m. EDT. Open session: 5:00 to 5:40 p.m.; closed session: 5:40 to 6:00 p.m.

SUBJECT MATTER: Open meeting subjects: Chairman's remarks; subcommittee member goals for May 2015 through May 2016; future directions for the subcommittee. Closed meeting subjects: approval of closed minutes of February 2015 subcommittee meeting; discussion of regional class research vessels.

STATUS: Partly open, partly closed.

This meeting will be held by teleconference. A public listening line will be available for the open portion of the meeting. Members of the public must contact the Board Office [call 703-292-7000 or send an email message to nationalsciencebrd@nsf.gov] at least 24 hours prior to the teleconference for the public listening number. Please refer to the National Science Board Web site for additional information and schedule updates (time, place, subject matter or status of meeting) which may be found at http://www.nsf.gov/nsb/notices/. The point of contact for this meeting is Elise Lipkowitz, elipkowi@nsf.gov).

Ann Bushmiller,
Senior Counsel to the National Science Board.

[FR Doc. 2015-09734 Filed 4-22-15; 4:15 pm]

BILLING CODE 7555-01-P